ENVIRONMENTAL PROTECTION AGENCY

[FRL-10015-38-Region 3]

Notice of Tentative Approval and Opportunity for Public Comment and Public Hearing for Public Water System Supervision Program Revision for Pennsylvania

AGENCY: Environmental Protection Agency (EPA).

ACTION: Notice of approval and solicitation of requests for public hearing.

SUMMARY: Notice is hereby given that the Commonwealth of Pennsylvania is revising its approved Public Water System Supervision Program. Pennsylvania has adopted drinking water regulations for the Ground Water Rule and the Long Term 2 Enhanced Surface Water Treatment Rule. The U.S. Environmental Protection Agency (EPA) has determined that Pennsylvania's Ground Water Rule and Long Term 2 Enhanced Surface Water Treatment Rule meet all minimum federal requirements, and that these are no less stringent than the corresponding federal regulations. Therefore, EPA has tentatively decided to approve the State program revisions.

DATES: Comments or a request for a public hearing must be submitted by December 4, 2020. This determination shall become final and effective on December 4, 2020 if no timely and appropriate request for a hearing is received, and the Regional Administrator does not elect to hold a hearing on his own motion, and if no comments are received which cause EPA to modify its tentative approval.

ADDRESSES: As a result of impacts related to the COVID-19 pandemic, all requests for documents relating to this determination must be submitted by electronic mail to the address below. Comments or a request for a public hearing must also be submitted via electronic mail.

FOR FURTHER INFORMATION CONTACT: Kelly Moran, EPA Region III, Drinking Water Section by email at moran.kelly@epa.gov, or telephone (215) 814-2331.

SUPPLEMENTARY INFORMATION: All interested parties are invited to submit written comments on this determination and may request a hearing. All comments will be considered, and if necessary, EPA will issue a response. Frivolous or insubstantial requests for a hearing will be denied by the Regional Administrator. If a substantial request for a public hearing is made by December 4, 2020, a public hearing will be held. A request for public hearing shall include the following: (1) The name, address, and telephone number of the individual, organization, or other entity requesting a hearing; (2) a brief statement of the requesting person's interest in the Regional Administrator's determination and of information that the requesting person intends to submit at such hearing; and (3) the signature of the individual making the request; or, if the request is made on behalf of an organization or other entity, the signature of a responsible official of the organization or other entity.

Dated: October 23, 2020.
Cosmo Servidio,
Regional Administrator, Region III.

[FR Doc. 2020-24375 Filed 11-3-20; 8:45 am]

BILLING CODE 6560-50-P